DEPARTMENT OF COMMERCE

International Trade Administration

Antidumping or Countervailing Duty Order, Finding, or Suspended Investigation; Opportunity To Request Administrative Review and Join Annual Inquiry Service List

Correction

In notice document 2022-28519, appearing on pages 45-49, in the issue of Tuesday, January 3, 2023, make the following correction:

In the table appearing on pages 46 and 47, in the second column, on each row, “1/22-12/31/22” should read “1/1/22-12/31/22”.

[FR Doc. C1-2022-28519 Filed 2-16-23; 8:45 am]

BILLING CODE 0099-10-P